DEPARTMENT OF THE INTERIOR

National Park Service

National Register of Historic Places; Notification of Pending Nominations

Nominations for the following properties being considered for listing in the National Register were received by the National Park Service before May 8, 2004.

Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by June 9, 2004.

Beth M. Boland,
Acting Keeper of the National Register of Historic Places.

ALASKA

Kodiak Island Borough-Census Area

SS ALEUTIAN (Shipwreck), Address Restricted, Larsen Bay, 04000593

CALIFORNIA

Alameda County

Green Shutter Hotel, 22650 Main St., Hayward, 04000594

Madera County

Young's Market Company Building, 1610 W. Seventh St., Los Angeles, 04000595

COLORADO

Morgan County

Fort Morgan State Armory, 528 State St., Fort Morgan, 04000596

IOWA

Bremer County

Sumner High School, 300 West 4th, Sumner, 04000597

MICHIGAN

Kent County

Grand Rapids Cycle Company Factory, 514 Butterworth St. SW., Grand Rapids, 04000600

Tuscola County

Hart, Jr., Lovira and Esther Maria Parker, Farm, 9491 W. Frankenmuth Rd., Tuscola, 04000599

Wayne County

Jeffferson—Chalmers Historic Business District, E. Jefferson bet. Eastlawn and Alter, Detroit, 04000598

Piquette Avenue Industrial Historic District,

Roughly bounded by Woodward, Harper, Hastings and the Grand Trunk Western Railroad Line, Detroit, 04000601

MISSOURI

Montgomery County

Farmers Mercantile Co. Building, 872 Boone's Lick Rd., High Hill, 04000604

Reynolds County

Buford—Carty Farmstead, 0.75 mi. S of Hwy J on Cty Rd. 814, Black, 04000603

St. Louis Independent City

Weisert, John, Tobacco Company, 1120 S. Sitxth St., St. Louis (Independent City), 04000602

NORTH CAROLINA

Northampton County

Jackson Historic District, Roughly bounded by Atherton St., Picard St., Buxton St., and northern town limit line, Jackson, 04000606

Yancey County

Chase—Coletta House, 108 Town Sq., Burnsville, 04000605

OHIO

Cuyahoga County

Van Rooy Coffee Company Building, 2900 Detroit Ave., Cleveland, 04000608

Franklin County

Zion's Evangelical Lutheran Church, 4501 Groveport Rd., Obetz, 04000609

Greene County

Carnegie Library (Old Wilberforce University Campus), 1400 Brush Row Rd., Wilberforce, 04000610

Lake County

Foster, Claud, House, 30333 Lake Shore Blvd., Willowick, 04000611

Warren County

Hunt—Forman Farm, 2945 N OH 741, Franklin, 04000607

OREGON

Benton County

Crystal Lake Cemetery, 1945 SE., Crystal Lake Dr., Corvallis, 04000613

Deschutes County

Nerdrum—Conrad House, 979 S. Fifth St., Coos Bay, 04000616

Jackson County

Medford Plaza Apartments, 235 S. Oakdale Ave., Medford, 04000614

Multnomah County

Sweeney, Straub and Dimm Printing Plant, 535 NW., 16th Ave., Portland, 04000615

PENNSYLVANIA

Bradford County

Athens Historic District, Roughly bounded by Elm and Locust Sts., 772 S. Main St., and the Chemung and Susquehanna River, Athens, 04000612

SOUTH CAROLINA

Newberry County

Newberry Historic District (Boundary Increase), (Newberry MRA) Along sections of Main, Lindsay and Wilson Sts., Newberry, 04000617

Oconee County

Oconee State Park Historic District, (South Carolina State Parks MPS) 624 State Park Rd., Mountain Rest, 04000618

Sumter County

Sumter County Courthouse, (Courthouses in South Carolina Designed by William Augustus Edwards TR) 141 N. Main St., Sumter, 04000619

A request for a Move has been made for the following resource:

NORTH DAKOTA

Grand Forks County

Campbell, Thomas D., House 2405 Belmont Rd. Grand Forks, 87002010

[FR Doc. 04-11717 Filed 5-24-04; 8:45 am]

BILLING CODE 4312-51-P